SMALL BUSINESS ADMINISTRATION

Annual Meeting of the Regional Small Business Regulatory Fairness Boards Office of the National Ombudsman

AGENCY: U.S. Small Business Administration (SBA).

ACTION: Notice of open meeting of the Regional Small Business Regulatory Fairness Boards.

SUMMARY: The SBA, Office of the National Ombudsman is issuing this notice to announce the location, date, time and agenda for the annual board meeting of the ten Regional Small Business Regulatory Fairness Boards. The meeting is open to the public.

DATES: The meeting will be held on: Tuesday, April 5, 2016 from 9:00 a.m. to 5:00 p.m. EDT and Wednesday, April 6, 2016 from 9:00 a.m. to 1:00 p.m. EDT.

ADDRESSES: The meeting will be at the DoubleTree by Hilton, 1515 Rhode Island Avenue NW., State Room, lobby level, Washington, DC 20005-5595.

SUPPLEMENTARY INFORMATION: Pursuant to the Small Business Regulatory Enforcement Fairness Act (Pub. L. 104-121), section 222, SBA announces the meeting of the Regional Small Business Regulatory Fairness Boards (Regional Regulatory Fairness Boards). The Regional Regulatory Fairness Boards are tasked to advise the National Ombudsman on matters of concern to small businesses relating to enforcement activities of agencies and to report on substantiated instances of excessive enforcement actions against small business concerns, including any findings or recommendations of the Board as to agency enforcement practice or policy.

The purpose of the meeting is to discuss the following topics related to the Regional Regulatory Fairness Boards:

—Introduction of the Regional Regulatory Fairness Boards and the staff of the Office of the National Ombudsman

—Panel Discussion with Federal Agency Representatives

—Facilitated discussion of ongoing regulatory issues for small business

—FY2015 Outcomes and comments regarding the Annual Report to Congress

—Office of Advocacy regulatory review

—SBA update and future outreach planning

FOR FURTHER INFORMATION CONTACT: The meeting is open to the public; however advance notice of attendance is requested. Anyone wishing to attend and/or make a presentation to the Regulatory Fairness Boards must contact Elahe Zahirieh, Case Management Specialist, by March 31, 2016, in writing at the Office of the National Ombudsman, 409 3rd Street SW., Suite 330, Washington, DC 20416, by phone (202) 205-2417, by fax (202) 481-5719 or email ombudsman@sba.gov.

Additionally, if you need accommodations because of a disability, translation services, or require additional information, please contact Elahe Zahirieh as well.

For more information on the Office of the National Ombudsman, please visit our Web site at www.sba.gov/ombudsman.

Dated: March 25, 2016.
Miguel J. L'Heureux,
SBA Committee Management Officer.

[FR Doc. 2016-07312 Filed 3-30-16; 8:45 am]

BILLING CODE 8025-01-P